DEPARTMENT OF LABOR

Employment and Training Administration

Announcement Regarding States Triggering “Off” in the Emergency Unemployment Compensation 2008 Program and the Federal-State Extended Benefits Program

AGENCY: Employment and Training Administration, Labor.

ACTION: Notice.

SUMMARY: Announcement regarding states triggering “off” in the Emergency Unemployment Compensation 2008 (EUC08) Program and the Federal-State Extended Benefits (EB) Program.

The U.S. Department of Labor (Department) produces trigger notices indicating which states qualify for both EB and EUC08 benefits, and provides the beginning and ending dates of payable periods for each qualifying state. The trigger notices covering state eligibility for these programs can be found at: http://ows.doleta.gov/unemploy/claims_arch.asp.

The following changes have occurred since the publication of the last notice regarding states' EB and EUC08 trigger status:

• Based on data released by the Bureau of Labor Statistics on April 20, 2012, California, Colorado, Connecticut, Florida, Illinois, North Carolina, Pennsylvania, and Texas no longer meet one of the criteria to remain “on” in EB, i.e., having their current three month average, seasonally adjusted total unemployment rate be at least 110% of one of the rates from a comparable period in one of the three prior years. This triggers these states “off” EB and the end of the payable period in the EB program for these states will be the week ending May 12, 2012.

• Based on data released by the Bureau of Labor Statistics on April 20, 2012, the three month average, seasonally adjusted total unemployment rate for Indiana fell below the threshold to remain “on” in Tier 4 of the EUC08 program. As a result, the current maximum potential entitlement in this state in the EUC08 program will decrease from 53 weeks to 47 weeks. The week ending May 12, 2012 will be the last week in which EUC claimants in this state can exhaust Tier 3, and establish Tier 4 eligibility. Under the phase-out provisions, claimants in this state can receive any remaining entitlement they have in Tier 4 after May 12, 2012.

• Based on data released by the Bureau of Labor Statistics on April 20, 2012, the three month average, seasonally adjusted total unemployment rate for Oklahoma fell below the threshold to remain “on” in Tier 3 of the EUC08 program. As a result, the current maximum potential entitlement in this state in the EUC08 program will decrease from 47 weeks to 34 weeks. The week ending May 12, 2012 will be the last week in which EUC claimants in this state can exhaust Tier 2, and establish Tier 3 eligibility. Under the phase-out provisions, claimants in this state can receive any remaining entitlement they have in Tier 3 after May 12, 2012.

• With data released for the 13 week period ending April 21, 2012, Alaska's 13-week Insured Unemployment Rate (IUR) has fallen below the 6% threshold to remain “on” in EB and Tier 4 of EUC. This triggers Alaska “off” EB and the end of the payable period for this state in the EB program will be the week ending May 12, 2012. This same data also causes Alaska to fall below the threshold to remain “on” in Tier 4 of the EUC08 program. As a result, the current maximum potential entitlement in this state in the EUC08 program will decrease from 53 weeks to 47 weeks. The week ending May 12, 2012 will be the last week in which EUC claimants in this state can exhaust Tier 3, and establish Tier 4 eligibility. Under the phase-out provisions, claimants in this state can receive any remaining entitlement they have in Tier 4 after May 12, 2012.

• Claimants in states that are triggered “on” to Tier 4 of the EUC08 program, but not triggered “on” to EB, may be eligible for augmentation of their Tier 4 entitlement from a maximum potential duration of 6 weeks to a maximum potential duration of 16 weeks. Details on this can be found at the bottom of the page for this link: http://wdr.doleta.gov/directives/corr_doc.cfm?DOCN=5271. States currently affected by this provision are Arizona, Georgia, Indiana, Kentucky, Michigan, Mississippi, Oregon, Puerto Rico, and South Carolina. States that will be eligible to provide for up to 16 weeks of Tier 4 benefits for new Tier 4 claimants starting May 13 are California, Florida, Illinois, and North Carolina.

Information for Claimants

The duration of benefits payable in the EUC08 program, and the terms and conditions under which they are payable, are governed by Public Laws 110-252, 110-449, 111-5, 111-92, 111-118, 111-144, 111-157, 111-205, 111-312, 112-96, and the operating instructions issued to the states by the Department. The duration of benefits payable in the EB program, and the terms and conditions on which they are payable, are governed by the Federal-State Extended Unemployment Compensation Act of 1970, as amended, and the operating instructions issued to the states by the Department.

In the case of a state concluding an EB period, the State Workforce Agency will furnish a written notice of any change in potential entitlement to each individual who had established eligibility for EB (20 CFR 615.13(c)(4)). Persons who believe they may be entitled to benefits under the EB or EUC08 program, or who wish to inquire about their rights under the program, should contact their State Workforce Agency.

FOR FURTHER INFORMATION CONTACT: Scott Gibbons, U.S. Department of Labor, Employment and Training Administration, Office of Unemployment Insurance, 200 Constitution Avenue NW., Frances Perkins Bldg. Room S-4524, Washington, DC 20210, telephone number (202) 693-3008 (this is not a toll-free number) or by email: gibbons.scott@dol.gov.

Signed in Washington, DC, this 5th day of June, 2012.
Jane Oates,
Assistant Secretary for Employment and Training.

[FR Doc. 2012-14172 Filed 6-11-12; 8:45 am]

BILLING CODE 4510-FW-P